DEPARTMENT OF HOMELAND SECURITY

Federal Emergency Management Agency

44 CFR Part 67

[Docket No. FEMA-D-7800]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) # Depth in feet above ground: Effective | *Elevation in feet (NGVD) +Elevation in feet (NAVD) # Depth in feet above ground: Modified | Communities affected
Iredell County, North Carolina and Incorporated Areas
Back Creek | At the Rowan/Iredell County boundary | None | +760 | Iredell County (Unincorporated Areas) Town of Mooresville.
| Approximately 100 feet downstream of Oakridge Farm Highway/NC Highway 150 | None | +801
Back Creek (North) | Approximately 1,500 feet upstream of the confluence with Third Creek | +798 | +799 | Iredell County (Unincorporated Areas) City of Statesville.
| Approximately 1,400 feet upstream of Arey Road (State Road 1337) | None | +811
Back Creek Tributary 1 | Approximately 500 feet upstream of the confluence with Back Creek | None | +760 | Iredell County (Unincorporated Areas).
| Approximately 1.1 miles upstream of River Hill Road (State Road 2166) | None | +787
Beaver Creek | At the confluence with Fifth Creek | None | +731 | Iredell County (Unincorporated Areas).
| Approximately 1.7 miles upstream of River Hill Road (State Road 2166) | None | +772
Beaver Creek Tributary | At the confluence with Beaver Creek | None | +740 | Iredell County (Unincorporated Areas).
| Approximately 0.8 mile upstream of the confluence with Beaver Creek | None | +752
Beaverdam Creek (West) | Approximately 250 feet downstream of the Rowan/Iredell County boundary | None | +814 | Iredell County (Unincorporated Areas).
| Approximately 30 feet upstream of the upstream most Rowan/Iredell County boundary | None | +851
Bell Branch | At the confluence with South Yadkin River | None | +697 | Iredell County (Unincorporated Areas).
| Approximately 2.4 miles upstream of Woodleaf Road (State Road 1003) | None | +752
Big Kennedy Creek | At the confluence with Hunting Creek | None | +762 | Iredell County (Unincorporated Areas).
| At the Iredell/Yadkin County boundary | None | +847
Brushy Creek | At the confluence with Hunting Creek | None | +897 | Iredell County (Unincorporated Areas).
| Approximately 0.7 mile upstream of the confluence of Pasture Bottom Creek | None | +1,034
Camel Branch | At the confluence with Rocky Creek (into South Yadkin River) | None | +829 | Iredell County (Unincorporated Areas).
| Approximately 1,600 feet upstream of Jericho Road (State Road 1849) | None | +866
Tributary 1 | At the confluence with Camel Branch | None | +841 | Iredell County (Unincorporated Areas).
| Approximately 0.5 mile upstream of the confluence with Camel Branch | None | +858
Coddle Creek | At the Iredell/Cabarrus County boundary | None | +674 | Iredell County (Unincorporated Areas) Town of Mooresville.
| Approximately 0.4 mile upstream of the confluence with Coddle Creek Tributary 8 | None | +779
Tributary 5 | At the confluence with Coddle Creek | None | +695 | Iredell County (Unincorporated Areas).
| Approximately 1.2 miles upstream of the confluence with Coddle Creek | None | +730
Tributary 6 | At the confluence with Coddle Creek | None | +737 | Iredell County (Unincorporated Areas).
| Approximately 1,600 feet upstream of the confluence with Coddle Creek | None | +749
Tributary 7 | At the confluence with Coddle Creek | None | +759 | Iredell County (Unincorporated Areas) Town of Mooresville.
| Approximately 0.4 mile upstream of the confluence with Coddle Creek | None | +779
Tributary 8 | At the confluence with Coddle Creek | None | +762 | Iredell County (Unincorporated Areas) Town of Mooresville.
| Approximately 0.5 mile upstream of the confluence with Coddle Creek | None | +783
Dishmon Creek | At the confluence with Rocky Creek (into South Yadkin River) | None | +1,068 | Iredell County (Unincorporated Areas).
| Approximately 1.1 mile upstream of the confluence with Rocky Creek (into South Yadkin River) | None | +1,094
Dutchman Creek | At the confluence with Kinder Creek | None | +717 | Iredell County (Unincorporated Areas).
| Approximately 0.8 mile upstream of Tomlin Road (State Road 1843) | None | +839
Tributary 6 | Approximately 100 feet downstream of the Iredell/Davie County boundary | None | +820 | Iredell County (Unincorporated Areas).
| Approximately 120 feet downstream of Sandy Springs Road (State Road 2105) | None | +909
Dye Creek | At the confluence with Rocky River | +705 | +704 | Iredell County (Unincorporated Areas) Town of Mooresville.
| Approximately 280 feet upstream of East McLelland Avenue | None | +832
Dye Creek Tributary | At the confluence with Dye Creek | +738 | +739 | Town of Mooresville.
| Approximately 1.3 miles upstream of Briarcliff Road | None | +808
East Fork Creek | At the confluence with Coddle Creek | None | +674 | Iredell County (Unincorporated Areas).
| Approximately 400 feet upstream of Linwood Road (State Road 1150) | None | +712
Fifth Creek | At the confluence with South Yadkin River | None | +703 | Iredell County (Unincorporated Areas).
| Approximately 570 feet upstream of Whites Farm Road (State Road 1911N) | None | +832
Fourth Creek | Approximately 1,000 feet downstream of the Iredell/Rowan County boundary | None | +729 | Iredell County (Unincorporated Areas) City of Statesville.
| Approximately 0.4 mile downstream of Antietam Road (State Road 1562) | None | +915
Tributary 6 | At the confluence with Fourth Creek | None | +731 | Iredell County (Unincorporated Areas).
| Approximately 0.5 mile upstream of the confluence with Fourth Creek | None | +737
Tributary 7 | At the confluence with Fourth Creek | None | +740 | Iredell County (Unincorporated Areas).
| Approximately 0.5 mile upstream of the confluence with Fourth Creek | None | +746
Tributary 8 | At the confluence with Fourth Creek | None | +748 | Iredell County (Unincorporated Areas).
| Approximately 0.9 mile upstream of the confluence with Fourth Creek | None | +763
Free Nancy Branch | At the confluence with Fourth Creek | +791 | +792 | City of Statesville.
| Approximately 250 feet upstream of North Race Street | +848 | +852
Greasy Creek | At the confluence with Third Creek | None | +741 | Iredell County (Unincorporated Areas).
| Approximately 1.8 mile upstream of the confluence with Brushy Creek | None | +770
Harve Creek | At the confluence with South Yadkin River | None | +834 | Iredell County (Unincorporated Areas).
| Approximately 0.5 mile upstream of the confluence with South Yadkin River | None | +860
Hunting Creek | At the Iredell/Davie County boundary | None | +724 | Iredell County (Unincorporated Areas).
| Approximately 0.4 mile upstream of Warren Bridge Road (State Road 1708) | None | +898
I-L Creek | Approximately 0.4 mile upstream of the confluence with Third Creek | +751 | +752 | Iredell County (Unincorporated Areas) Town of Troutman.
| Approximately 0.4 mile upstream of Patterson Street | None | +909
Kinder Creek | At the confluence with South Yadkin River | None | +713 | Iredell County (Unincorporated Areas).
| Approximately 1.1 miles upstream of Old Mocksville Road (State Road 2158) | None | +731
Tributary 1 | At the confluence with Kinder Creek | None | +713 | Iredell County (Unincorporated Areas).
| Approximately 0.5 mile upstream of Vaughn Mill Road (State Road 2145) | None | +727
Tributary 1A | At the confluence with Kinder Creek Tributary 1 | None | +713 | Iredell County (Unincorporated Areas).
| Approximately 0.4 mile upstream of the confluence with Kinder Creek Tributary 1 | None | +728
Little Creek (North) | At the Iredell/Davie County boundary | None | +798 | Iredell County (Unincorporated Areas).
| Approximately 500 feet downstream of Hayes Farm Road (State Road 2144) | None | +823
Little Creek (South) | At the Iredell/Rowan County boundary | None | +748 | Iredell County (Unincorporated Areas).
| Approximately 800 feet upstream of Iredell/Rowan County boundary | None | +755
Little Rocky Creek | At the confluence with Patterson Creek | None | +824 | Iredell County (Unincorporated Areas).
| Approximately 80 feet downstream of Hams Grove Road (State Road 2017) | None | +906
Tributary 1 | At the confluence with Little Rocky Creek | None | +851 | Iredell County (Unincorporated Areas).
| Approximately 0.7 mile upstream of the confluence with Little Rocky Creek | None | +876
Long Branch | At the confluence with North Little Hunting Creek | None | +773 | Iredell County (Unincorporated Areas).
| Approximately 600 feet upstream of Barnard Mill Road (State Road 1824) | None | +898
Morrison Creek | Approximately 250 feet upstream of the confluence with Fourth Creek | +799 | +798 | Iredell County (Unincorporated Areas) City of Statesville.
| Approximately 1,820 feet upstream of Old Wilkesboro Road (State Road 1645) | None | +845
North Little Hunting Creek | At the confluence with Hunting Creek | None | +771 | Iredell County (Unincorporated Areas).
| At the Iredell/Yadkin County boundary | None | +813
Olin Creek | At the confluence with Patterson Creek | None | +796 | Iredell County (Unincorporated Areas).
| Approximately 600 feet upstream of Eupeptic Springs Road (State Road 1858) | None | +907
Pasture Bottom Creek | At the confluence with Brushy Creek | None | +992 | Iredell County (Unincorporated Areas).
| Approximately 1.0 mile upstream of the confluence with Brushy Creek | None | +1,035
Patterson Creek | At the confluence with Rocky Creek (into South Yadkin River) | None | +789 | Iredell County (Unincorporated Areas).
| Approximately 0.4 mile upstream of the confluence of Patterson Creek Tributary 2 | None | +916
Tributary 1 | At the confluence with Patterson Creek | None | +813 | Iredell County (Unincorporated Areas).
| Approximately 530 feet downstream of Bussell Road (State Road 1894) | None | +828
Tributary 2 | At the confluence with Patterson Creek | None | +896 | Iredell County (Unincorporated Areas).
| Approximately 0.7 mile upstream of the confluence with Patterson Creek | None | +920
Rocky Creek (into South Yadkin River) | At the confluence with South Yadkin River | None | +732 | Iredell County (Unincorporated Areas).
| Approximately 1.3 miles upstream of Branton Road (State Road 1601) | None | +1,115
Rocky River | At the Iredell/Mecklenberg/Cabarrus County boundary | None | +688 | Iredell County (Unincorporated Areas) Town of Mooresville.
| Approximately 2.1 miles upstream of Coddle Creek Highway | None | +827
Tributary 12 | At the Iredell/Mecklenburg County boundary | None | +690 | Iredell County (Unincorporated Areas).
| Approximately 1.2 miles upstream of the confluence with Rocky River | None | +727
Shinns Creek | At the confluence with Weathers Creek | None | +768 | Iredell County (Unincorporated Areas) Town of Troutman.
| Approximately 2.8 miles upstream of Weathers Creek Road (State Road 2379 S) | None | +901
Sills Creek | At the Iredell/Rowan County boundary | None | +813 | Iredell County (Unincorporated Areas).
| Approximately 1,000 feet upstream of the Iredell/Rowan County boundary | None | +825
Snow Creek | At the confluence with South Yadkin River | None | +769 | Iredell County (Unincorporated Areas).
| Approximately 100 feet upstream of the Alexander/Iredell County boundary | None | +1,013
South Fork Withrow Creek | At the confluence with Weathers Creek and Withrow Creek | None | +746 | Iredell County (Unincorporated Areas).
| Approximately 0.5 mile upstream of Winthrow Creek Road (State Road 2379 S) | None | +791
South Yadkin River | At the Davie/Iredell County boundary | None | +697 | Iredell County (Unincorporated Areas).
| Approximately 100 feet upstream of the Alexander/Iredell County boundary | None | +843
Tributary 6 | At the confluence with South Yadkin River | None | +709 | Iredell County (Unincorporated Areas).
| Approximately 0.5 mile upstream of the confluence with South Yadkin River | None | +709
Tributary 7 | At the confluence with South Yadkin River | None | +713 | Iredell County (Unincorporated Areas).
| Approximately 1,940 feet upstream of the confluence with South Yadkin River | None | +713
Tributary 8 | At the confluence with South Yadkin River | None | +716 | Iredell County (Unincorporated Areas).
| Approximately 150 feet downstream of White Oak Branch Road (State Road 2162 W) | None | +716
Third Creek | Approximately 100 feet downstream of the Iredell/Rowan County boundary | None | +722 | Iredell County (Unincorporated Areas) City of Statesville.
| Approximately 400 feet upstream of the Iredell/Alexander County boundary | None | +915 | Town of Troutman.
Tributary 1 | At the confluence with Third Creek | None | +724 | Iredell County (Unincorporated Areas).
| Approximately 1,900 feet upstream of Knox Farm Road (State Road 2363) | None | +735
Tributary 2 | At the confluence with Third Creek | None | +725 | Iredell County (Unincorporated Areas).
| Approximately 0.8 mile upstream of the confluence with Third Creek | None | +740
Tributary 3 | At the confluence with Third Creek | None | +730 | Iredell County (Unincorporated Areas).
| Approximately 0.6 mile upstream of Cornflower Road | None | +752
Tributary 3A | At the confluence with Third Creek Tributary 3 | None | +730 | Iredell County (Unincorporated Areas).
| Approximately 0.6 mile upstream of the confluence with Third Creek Tributary 3 | None | +744
Tributary 3B | At the confluence with Third Creek Tributary 3 | None | +741 | Iredell County (Unincorporated Areas).
| Approximately 0.7 mile upstream of the confluence with Third Creek Tributary 3 | None | +757
Tributary 4 | At the confluence with Third Creek | None | +894 | Iredell County (Unincorporated Areas).
| Approximately 0.4 mile upstream of the confluence with Third Creek | None | +904
Tributary 1 | At the confluence with Fourth Creek | +768 | +770 | City of Statesville.
| Approximately 2,000 feet upstream of the confluence with Fourth Creek | +772 | +771
Tributary 2 | Approximately 700 feet upstream of the confluence with Third Creek | +804 | +805 | Iredell County (Unincorporated Areas) City of Statesville.
| Approximately 0.4 mile upstream of Johnson Drive | None | +863
Tributary 2A | Approximately 500 feet upstream of the confluence with Third Creek | +814 | +815 | City of Statesville.
| Approximately 0.8 mile upstream of Newton Drive | None | +910
Tributary 3 | At the confluence with Fourth Creek | +786 | +785 | Iredell County (Unincorporated Areas) City of Statesville.
| Approximately 1.2 miles upstream of Interstate 40 | None | +839
Tributary 4 | Approximately 1,000 feet upstream of the confluence with Third Creek | None | +798 | City of Statesville.
| Approximately 130 feet downstream of Cochran Street | None | +858
Tributary 5 | Approximately 650 feet upstream of the confluence with Third Creek | +771 | +772 | City of Statesville.
| Approximately 0.8 mile upstream of the confluence with Third Creek | None | +866
Tributary 6 | Approximately 500 feet upstream of the confluence with Third Creek | None | +764 | City of Statesville.
| Approximately 0.6 mile upstream of the confluence of Tributary 6B | None | +853
Tributary 6A | At the confluence with Tributary 6 | None | +817 | City of Statesville.
| Approximately 900 feet upstream of I-77 Highway | None | +843
Tributary 6A1 | At the confluence with Tributary 6A | None | +817 | City of Statesville.
| Approximately 0.4 mile upstream of Tributary 6A | None | +857
Tributary 6A2 | At the confluence with Tributary 6A | None | +827 | City of Statesville.
| Approximately 1,200 feet upstream of Tributary 6A | None | +846
Tributary 6B | At the confluence with Tributary 6 | None | +822 | City of Statesville.
| Approximately 0.3 mile upstream of The confluence of Tributary 6B1 | None | +859
Tributary 6B1 | At the confluence with Tributary 6B | None | +829 | City of Statesville.
| Approximately 880 feet upstream of the confluence with Tributary 6B | None | +841
Tuckers Creek | At the confluence with Patterson Creek | None | +878 | Iredell County (Unincorporated Areas).
| Approximately 1.7 miles upstream of the confluence with Patterson Creek | None | +942
Weathers Creek | At the confluence with South Fork Withrow Creek and Withrow Creek | None | +746 | Iredell County (Unincorporated Areas).
| Approximately 1.4 miles upstream of Westmoreland Road (State Road 2390) | None | +837
Tributary 1 | At the confluence with Weathers Creek | None | +757 | Iredell County (Unincorporated Areas).
| Approximately 0.6 mile upstream of the confluence with Weathers Creek | None | +773
West Branch Rocky River | At the Iredell/Mecklenberg County boundary | None | +687 | Iredell County (Unincorporated Areas) Town of Mooresville.
| Approximately 0.5 mile upstream of Timber Road | None | +794
Tributary | At the confluence with West Branch Rocky River | +715 | +713 | Unincorporated Areas of Iredell County, Town of Mooresville.
| Approximately 0.9 mile upstream of Mott Road | None | +750
Tributary 1 | At the confluence with West Branch Rocky River | None | +695 | Iredell County (Unincorporated Areas) Town of Mooresville.
| Approximately 0.7 mile upstream of Midway Lake Road (State Road 1137) | None | +734
Tributary 2 | At the confluence with West Branch Rocky River | None | +763 | Town of Mooresville.
| Approximately 0.6 mile upstream of Timber Road | None | +806
Westmoreland Creek | At the confluence with Weathers Creek | None | +761 | Iredell County (Unincorporated Areas).
| Approximately 0.5 mile upstream of the confluence with Weathers Creek | None | +771
Withrow Creek | At the Rowan/Iredell County boundary | None | +743 | Iredell County (Unincorporated Areas).
| At the confluence of South Fork Withrow Creek and Weathers Creek | None | +746
Woodleaf Branch (West) | Approximately 50 feet downstream of the Rowan/Iredell County boundary | None | +765 | Iredell County (Unincorporated Areas).
| Approximately 450 feet upstream of the Rowan/Iredell County boundary | None | +767
* National Geodetic Vertical Datum.
# Depth in feet above ground.
+ North American Vertical Datum.
ADDRESSES
City of Statesville:
Maps are available for inspection at City of Statesville Planning Department, 301 South Center Street, Statesville, North Carolina.
Send comments to The Honorable Constantine Kutteh, Mayor of the City of Statesville, P.O. Box 1111, Statesville, North Carolina 28687.
Town of Mooresville:
Maps are available for inspection at Town of Mooresville Planning Department, 413 North Main Street, Mooresville, North Carolina.
Send comments to The Honorable Bill Thunberg, Mayor of the Town of Mooresville, P.O. Box 878, Mooresville, North Carolina 28115.
Town of Troutman:
Maps are available for inspection at Troutman Town Hall, 400 North Eastway Drive, Troutman, North Carolina.
Send comments to The Honorable Elbert Richardson, Mayor of the Town of Troutman, P.O. Box 26, Troutman, North Carolina 28166.
Iredell County (Unincorporated Areas):
Maps are available for inspection at Iredell County Planning Department, 227 South Center Street, Statesville, North Carolina.
Send comments to Mr. Joel Mashburn, Iredell County Manager, P.O. Box 788, Statesville, North Carolina 28687.
Ashtabula County, Ohio, and Incorporated Areas
Lake Erie | Entire Lake Erie coastline within the corporate limits of City of Ashtabula | +576 | +576 | City of Ashtabula.
Lake Erie | Entire Lake Erie coastline within the corporate limits of City of Conneaut | +576 | +576 | City of Conneaut.
Lake Erie | Entire Lake Erie coastline within the corporate limits of Village of Geneva-on-the-Lake | +576 | +576 | Village of Geneva-On-The-Lake.
Lake Erie | Village of North Kingsville—Entire Lake Erie coastline within the corporate limits of Village of North Kingsville | None | +576 | Village of North Kingsville.
Lake Erie | Entire Lake Erie coastline within the Unincorporated Areas of Ashtabula County | +576 | +576 | Ashtabula County (Unincorporated Areas).
* National Geodetic Vertical Datum.
+ North American Vertical Datum.
# Depth in feet above ground.
ADDRESSES
City of Ashtabula:
Maps are available for inspection at 4717 Main Avenue, Ashtabula, OH 44004.
Send comments to Mr. Anthony Cantagallo, City Manager, City of Ashtabula, 4717 Main Avenue, Ashtabula, OH 44004.
City of Conneaut:
Maps are available for inspection at 294 Main Street, Conneaut, OH 44030.
Send comments to Mr. Douglas Lewis, City Manager, City of Conneaut, 294 Main Street, Conneaut, OH 44030.
City of Geneva:
Maps are available for inspection at 44 North Forest Street, Geneva, OH 44041.
Send comments to Mr. James Pearson, City Manager, City of Geneva, 44 North Forest Street, Geneva, OH 44041.
Ashtabula County (Unincorporated Areas):
Maps are available for inspection at 25 West Jefferson Street, Jefferson, OH 44047.
Send comments to Mr. David Smith, Chief Building Official, Ashtabula County, 25 West Jefferson Street, Jefferson, OH 44047.
Village of Geneva-On-The-Lake:
Maps are available for inspection at 25 West Jefferson Street, Jefferson, OH 44047.
Send comments to The Honorable Meredith Rhodes, Mayor, Village of Geneva-on-the-Lake, 4964 South Spencer Drive, Geneva-on-the-Lake, OH 44041.
Village of Jefferson:
Maps are available for inspection at 27 East Jefferson Street, Jefferson, OH 44047.
Send comments to The Honorable Judy Maloney, Village Administrator/Zoning Inspector, Village of Jefferson, 27 East Jefferson Street, Jefferson, OH 44047.
Village of North Kingsville:
Maps are available for inspection at 3541 East Center Street, North Kingsville, OH 44068.
Send comments to The Honorable Ron McVoy, Mayor, Village of North Kingsville, PO Box 253, 3541 East Center Street, North Kingsville, OH 44068.
Village of Roaming Shores:
Maps are available for inspection at 2500 Hayford Road, Roaming Shores, OH 44084.
Send comments to The Honorable Karl Biats, Jr., Mayor, Village of Roaming Shores, PO Box 237, 2500 Hayford Road, Roaming Shores, OH 44084.
Village of Rock Creek:
Maps are available for inspection at West Water Street, Rock Creek, OH 44084.
Send comments to The Honorable Robert P. Shultz, Mayor, Village of Rock Creek, PO Box 92, West Water Street, Rock Creek, OH 44084.
Door County, Wisconsin, and Incorporated Areas
Ahnapee River | Approximately 0.6 mile downstream of County Highway J | None | +587 | Village of Forestville.
| Approximately 400 feet upstream of County Highway J | None | +590
Green Bay | Approximately 800 feet north of the intersection of County Highway CC and Lime Kiln Road | +584 | +585 | Door County (Unincorporated Areas) Village of Egg Harbor.
| Approximately 900 feet west of the intersection of State Highway 42 and Garrett Bay Road | +584 | +585 | Village of Sister Bay.
* National Geodetic Vertical Datum.
+ North American Vertical Datum.
# Depth in feet above ground.
ADDRESSES
Door County (Unincorporated Areas):
Maps are available for inspection at Door County Courthouse, 421 Nebraska Street, Sturgeon Bay, WI 54235-0670.
Send comments to Mr. Charlie Most, Jr., Chairman, Door County Board of Commissioners, 421 Nebraska Street, Sturgeon Bay, WI 54235-0670.
Village of Egg Harbor:
Maps are available for inspection at Village of Egg Harbor Village Hall, 7860 Highway 42, Egg Harbor, WI 54209.
Send comments to Mr. Bruce Hill, Village President, Village of Egg Harbor, Post Office Box 175, Egg Harbor, WI 54209-0175.
Village of Forestville:
Maps are available for inspection at Village of Forestville Village Hall, 123 South Forestville Avenue, Forestville, WI 54213.
Send comments to Mr. Thomas Tostrup, Village President, Village of Forestville, Post Office Box 96, Forestville, WI 54213.
Village of Sister Bay:
Maps are available for inspection at Village of Sister Bay Village Hall, 421 Maple Drive, Sister Bay, WI 54234.
Send comments to Mr. Dennis Bhirdo, Village President, Village of Sister Bay, 235 Maple Drive, Sister Bay, WI 54234.
Sheboygan County, Wisconsin, and Incorporated Areas
East Branch Milwaukee River | Just upstream of Division Road | None | +1012 | Sheboygan County (Unincorporated Areas).
| At intersection between Division Road and Scenic Drive | None | +1012
Sheboygan River | Approximately 4,700 feet upstream of County Highway JM | +771 | +770 | Sheboygan County (Unincorporated Areas).
| Approximately 1,500 feet upstream of County Highway A | +804 | +798
* National Geodetic Vertical Datum.
+ North American Vertical Datum.
# Depth in feet above ground.
ADDRESSES
Sheboygan County (Unincorporated Areas):
Maps are available for inspection at Administration Building, 508 New York Avenue, Sheboygan, WI 53081-4126.
Send comments to William C. Goehring, Chairperson, Sheboygan County Board, 508 New York Avenue, Administration Building, Third Floor, Room 311, Sheboygan, WI 53081.

(Catalog of Federal Domestic Assistance No. 97.022, “Flood Insurance.”)
Dated: May 15, 2007.
David I. Maurstad,
Federal Insurance Administrator of the, National Flood Insurance Program, Federal Emergency Management Agency, Department of Homeland Security.

[FR Doc. 07-2824 Filed 6-6-07; 8:45 am]

BILLING CODE 9110-12-P